DEPARTMENT OF COMMERCE

National Oceanic and Atmospheric Administration

National Estuarine Reserve System

AGENCY: Estuarine Reserves Division, Office of Ocean and Coastal Resource Management, National Ocean Service, National Oceanic and Atmospheric Administration, U.S. Department of Commerce.

ACTION: Announcement to re-open solicitation period for the National Estuarine research Reserve Land Acquisition and Construction Program FY10.

SUMMARY: The National Oceanic and Atmospheric Administration, National Ocean Service, publishes this notice to re-open the solicitation period for the National Estuarine Research Reserve Land Acquisition and Construction Program FY10 to provide National Estuarine Research Reserve lead State agencies or designated universities in coastal States the opportunity to submit proposals for funds.

DATES: The deadline for the receipt of proposals is 11:59 p.m. Eastern Standard Time on February 19, 2010 for both electronic and paper applications.

Addresses for Submitting Proposals: Applications must be submitted through http://www.grants.gov, unless an applicant does not have Internet access. In that case, hard copies with original signatures may be sent to Nina Garfield, 1305 East West Highway, N/ORM5, SSMC4, Silver Spring, MD 20910.

FOR FURTHER INFORMATION CONTACT: Nina Garfield, 1305 East West Highway, N/ORM5, SSMC4, 10500, Silver Spring, MD 20910; or by phone at (301) 713-3155 ext. 171, or via e-mail at nina.garfield@noaa.gov.

SUPPLEMENTARY INFORMATION: Funding Opportunity Number: NOAA-NOS-OCRM-2010-2001856.

Catalog of Federal Domestic Assistance (CFDA) Number: 11.420, Coastal Zone Management Estuarine Research Reserves.

The National Estuarine Research Reserve Land Acquisition and Construction Program publishes this notice to re-open the application solicitation period to provide National Estuarine Research Reserve lead state agencies or designated universities in coastal states the opportunity to submit proposals for FY 2010 grant funds. The mission of the National Estuarine Research Reserve Land Acquisition and Construction Program is to provide funding to the designated reserves for acquiring additional property interests and for construction projects within these reserves to strengthen protection of key land and water areas; to enhance long-term protection of the areas for research and education; and provide for facility and exhibit construction and enhancement.

This program originally solicited proposals in the Federal Register on July 16, 2009 (74 FR 34674) as part of the June 2009 NOAA Omnibus solicitation. The original deadline for receipt of proposals was 11:59 p.m., EST, on November 30, 2009. Due to State fiscal constraints and uncertainties at the time of the original solicitation, some applicants may not have been able to submit proposals, and therefore the applications received totaled less than the funds available. Therefore, NOAA re-opens the solicitation period to provide applicants the opportunity to submit proposals. The deadline for the receipt of proposals is 11:59 p.m. EST on February 19, 2010 for both electronic and paper applications.

Applicants are directed to the July 16, 2009 Federal Register notice and Federal Funding Opportunity announcement for information on the program's priorities, application requirements, evaluation criteria, and selection process for this solicitation. The program will evaluate applications received during both the original solicitation period and the re-opened period, at the same time using the evaluation and selection processes outlined in the July 16, 2009 notice and FFO announcement.

Classification:

Limitation of Liability: Funding for programs listed in this notice is contingent upon the availability of Fiscal Year 2010 appropriations. Applicants are hereby given notice that funds have not yet been appropriated for the competition listed in this notice. In no event will NOAA or the Department of Commerce be responsible for proposal preparation costs if these programs fail to receive funding or are cancelled because of other agency priorities. Publication of this announcement does not oblige NOAA to award any specific project or to obligate any available funds.

Universal Identifier: Applicants should be aware that they are required to provide a Dun and Bradstreet Data Universal Numbering System (DUNS) number during the application process. See the October 30, 2002 Federal Register (67 FR 66177-66178), for additional information. Organizations can receive a DUNS number at no cost by calling the dedicated toll-free DUNS Number request line at 1-866-705-5711 or via the Internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements contained in the Federal Register notice of February 11, 2008 (73 FR 7696), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2). Because notice and opportunity for comment are not required pursuant to 5 U.S.C. 553 or any other law, the analytical requirements of the Regulatory Flexibility Act (5 U.S.C. 601 et seq.) are inapplicable. Therefore, a regulatory flexibility analysis has not been prepared.

FOR FURTHER INFORMATION CONTACT: Nina Garfield at (301) 713-3155 Extension 171 of NOAA's National Ocean Service, Estuarine Reserves Division, 1305 East-West Highway, N/ORM5, 10th floor, Silver Spring, MD 20910.

Dated: January 14, 2010.
Donna Wieting,
Director, Office of Ocean and Coastal Resource Management, National Oceanic and Atmospheric Administration.

[FR Doc. 2010-1500 Filed 1-26-10; 8:45 am]

BILLING CODE 3510-08-P